SOCIAL SECURITY ADMINISTRATION

20 CFR Parts 404, 405, and 416

[Docket No. SSA 2007-0053]

RIN 0960-AG54

Compassionate Allowances for Cancers; Office of the Commissioner, Hearing

AGENCY: Social Security Administration (SSA).

ACTION: Advance Notice of Proposed Rulemaking; Announcement of Public Hearing and Limited Reopening of Comment Period.

SUMMARY: We are considering ways to quickly identify diseases and other serious medical conditions that obviously meet the definition of disability under the Social Security Act (the Act) and can be identified with minimal objective medical information. We are calling this method “Compassionate Allowances.” We held one public hearing already and plan to hold additional public hearings this year. This is the second hearing in the series. The purpose of this hearing is to obtain your views about the advisability and possible methods of identifying and implementing compassionate allowances for children and adults with cancers. Our first hearing, on December 4-5, 2007, dealt with rare diseases. We will address other kinds of medical conditions in later hearings.

DATES: This hearing will be held April 7, 2008, between 8:45 a.m. and 5:30 p.m. Eastern Standard Time (EST), in Boston, MA. The hearing will be held at 7 Cambridge Center, Cambridge, MA, 02142, at the Broad Institute Auditorium of the Massachusetts Institute of Technology. While the public is welcome to attend the hearing, only invited witnesses will present testimony. You may also watch the proceedings live via webcast beginning at 9 a.m. Eastern Standard Time (EST). You may access the webcast link for the hearing on the Social Security Administration Web page at http://www.socialsecurity.gov/compassionateallowances/hearings0407.htm.

ADDRESSES: You may submit written comments about the compassionate allowances initiative with respect to children and adults with cancers, as well as topics covered at the hearing by: (1) Internet through the Federal eRulemaking Portal at http://www.regulations.gov; (2) e-mail addressed to Compassionate.Allowances@ssa.gov; or (3) mail to Diane Braunstein, Director, Office of Compassionate Allowances and Listings Improvements, ODP, ODISP, Social Security Administration, 4468 Annex, 6401 Security Boulevard, Baltimore, MD 21235-6401. We must receive written comments by May 9, 2008.

FOR FURTHER INFORMATION CONTACT: Compassionate.Allowances@ssa.gov. You may also mail inquiries about this meeting to Diane Braunstein, Director, Office of Compassionate Allowances and Listings Improvements, ODP, ODISP, Social Security Administration, 4468 Annex, 6401 Security Boulevard, Baltimore, MD 21235-6401. For information on eligibility or filing for benefits, call our national toll-free number 1-800-772-1213 or TTY 1-800-325-0778, or visit our Internet site, Social Security Online, at http://www.socialsecurity.gov.

SUPPLEMENTARY INFORMATION:

Background

Under titles II and XVI of the Act, we pay benefits to individuals who meet our rules for entitlement and have medically determinable physical or mental impairments that are severe enough to meet the definition of disability in the Act. The rules for determining disability can be very complicated, but some individuals have such serious medical conditions that their conditions obviously meet our disability standards. To better address the needs of these individuals, we are looking into ways to allow benefits as quickly as possible.

On July 31, 2007, we published an advance notice of proposed rulemaking (ANPRM) in the Federal Register to solicit the public's views on what standards we should use for making compassionate allowances, methods we might use to identify compassionate allowances and suggestions for how to implement those standards and methods. (See 72 FR 41649.) You may read the ANPRM at http://www.gpoaccess.gov/fr/index.html or at http://www.regulations.gov, where you may also read the public comments we received. The 60-day comment period on the overall compassionate allowance initiative ended on October 1, 2007. We reopened the comment period in connection with our first public hearing in order to receive comments with respect to children and adults with rare diseases. This notice constitutes a limited reopening of the comment period with respect to children and adults with cancers, as well as topics covered at the hearing on April 7, 2008.

Will We Respond to Your Comments?

We will carefully consider your comments, although we will not respond directly to comments sent in response to this notice or the hearing. Thereafter, we will decide whether to implement the compassionate allowance initiative and, if so, how the initiative will be implemented. If we decide to issue regulations addressing compassionate allowances, we will publish a notice of proposed rulemaking (NPRM) in the Federal Register. In accordance with the usual rulemaking procedures we follow, you will have a chance to comment on the revisions we propose in the NPRM, and we will summarize and respond to the significant comments in the preamble to any final rules.

Additional Hearings

We held a hearing on rare diseases on December 4 and 5, 2007. You may access a transcript of the hearing at www.regulations.gov, when it becomes available. We plan to hold additional hearings on chronic conditions and traumatic injuries, and will announce those hearings later with notices in the Federal Register.

(Catalog of Federal Domestic Assistance Program Nos. 96.001, Social Security—Disability Insurance; 96.006, Supplemental Security Income. (72 FR 62608)

Dated: February 6, 2008.
Michael J. Astrue,
Commissioner of Social Security.

[FR Doc. E8-3720 Filed 2-27-08; 8:45 am]

BILLING CODE 4191-02-P